DEPARTMENT OF ENERGY

Federal Energy Regulatory Commission

[Docket No. CP00-433-001]

Northern Natural Gas Company; Notice of Compliance Filing

November 22, 2000.

Take notice that on November 15, 2000, Northern Natural Gas Company (Northern) tendered for filing to become part of Northern's FERC Gas Tariffs, Fifth Revised Volume No. 1, the following tariff sheets proposed to be effective on November 3, 2000:

Fifth Revised Volume No. 1

Third Revised Sheet No. 7

Original Volume No. 2

Ninth Revised Sheet No. 1A.2

38 Revised Sheet No. 1C.a

Second Revised Sheet No. 2144

Northern states that the above sheets represent cancellation of Rate Schedule T-44 from Northern's Original Volume No. 2 FERC Gas Tariff, and its associated deletion from the Table of Contents in Northern's Volume Nos. 1 and 2 tariffs.

Northern states that copies of the filing were served upon the company's customers and interested state Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30343 Filed 11-28-00; 8:45 am]

BILLING CODE 6717-01-U